DEPARTMENT OF HOMELAND SECURITY

Coast Guard

33 CFR Part 165

[Docket No. USCG-2024-0666]

Safety Zones; Annual Fireworks Displays Within the Puget Sound

AGENCY: Coast Guard, DHS.

ACTION: Notification of enforcement of regulation.

SUMMARY: The Coast Guard will enforce regulations for the Medina Days safety zone in Medina Beach Park on Lake Washington, Seattle, Washington to provide for the safety of life on navigable waters during an annual fireworks display. This safety zone will consist of all navigable waters within a 450-yard radius surrounding the event's launch site. Our regulation for safety zones within the Captain of the Port, Puget Sound Area of Responsibility identifies the specific location for this launch site and the corresponding safety zone for the event.

DATES: The regulations in 33 CFR 165.1332 for the Medina Beach Park location will be enforced from 5 p.m. on August 10, 2024, through 1 a.m. on August 11, 2024.

FOR FURTHER INFORMATION CONTACT: If you have questions about this notification of enforcement, call or email Mr. Jeffrey Zappen, Sector Puget Sound Waterways Management, U.S. Coast Guard; telephone 206-217-6076, or email SectorPugetSoundWWM@uscg.mil.

SUPPLEMENTARY INFORMATION: The Coast Guard will enforce safety zone regulations in 33 CFR 165.1332 for the Annual Fireworks Display at Medina Beach Park on Lake Washington from 5 p.m. on August 10, 2024, through 1 a.m. on August 11, 2024. This action is being taken to provide for the safety of life on navigable waterways during this 1-day event at the following location:

Event name (typically) | Event location | Latitude | Longitude
Medina Days | Medina Beach Park | 47°36.867′ N | 122°14.500′ W

The special requirements listed in 33 CFR 165.1332(b) related to fireworks barges and fireworks launch sites, or both, shall apply and be implemented during the specified enforcement period of this safety zone.

During the specified enforcement period, no vessel operator may enter, transit, moor, or anchor within this safety zone unless authorized by the Captain of the Port or their designated representative(s). The Coast Guard may be assisted by other Federal, State, or local law enforcement agencies in enforcing this regulation.

All vessel operators who desire to enter the safety zone must obtain permission from the Captain of the Port or their designated representative(s) by contacting the on-scene patrol craft on VHF Ch. 13 or Ch. 16, or calling Coast Guard Sector Puget Sound's Joint Harbor Operations Center (JHOC); telephone 206-217-6002.

In addition to the notification of enforcement in the Federal Register, the Coast Guard plans to provide notification of this enforcement period via the Local Notice to Mariners, marine information broadcasts, local radio stations and area newspapers.

Dated: July 31, 2024.
Mark A. McDonnell,
Captain, U.S. Coast Guard, Captain of the Port, Sector Puget Sound.

[FR Doc. 2024-17710 Filed 8-8-24; 8:45 am]

BILLING CODE 9110-04-P